DEPARTMENT OF ENERGY

Federal Energy Regulatory Commission

Combined Notice of Filings

Take notice that the Commission has received the following Natural Gas Pipeline Rate and Refund Report filings:

Filings Instituting Proceedings

Docket Numbers: RP12-967-000.

Applicants: Natural Gas Pipeline Company of America.

Description: OXY Negotiated Rate Amendment to be effective 9/1/2012.

Filed Date: 8/30/12.

Accession Number: 20120830-5076.

Comments Due: 5 p.m. e.t. 9/11/12.

Docket Numbers: RP12-968-000.

Applicants: Natural Gas Pipeline Company of America.

Description: Amendment to Twin Eagle Negotiated Rate Agreement to be effective 9/1/2012.

Filed Date: 8/30/12.

Accession Number: 20120830-5077.

Comments Due: 5 p.m. e.t. 9/11/12.

Docket Numbers: RP12-969-000.

Applicants: Northwest Pipeline GP.

Description: NWP Fuel Factor Filing, Effective October 1, 2012 to be effective 10/1/2012.

Filed Date: 8/30/12.

Accession Number: 20120830-5082.

Comments Due: 5 p.m. e.t. 9/11/12.

Docket Numbers: RP12-970-000.

Applicants: Northwest Pipeline GP.

Description: NWP 2012 Housekeeping Filing No. 1 to be effective 10/1/2012.

Filed Date: 8/30/12.

Accession Number: 20120830-5083.

Comments Due: 5 p.m. e.t. 9/11/12.

Docket Numbers: RP12-971-000.

Applicants: Northwest Pipeline GP.

Description: NWP ACA Collection Change Filing to be effective 10/1/2012.

Filed Date: 8/30/12.

Accession Number: 20120830-5084.

Comments Due: 5 p.m. e.t. 9/11/12.

Docket Numbers: RP12-972-000.

Applicants: Questar Overthrust Pipeline Company.

Description: Sec 13.1, Daily Scheduling to be effective 9/30/2012.

Filed Date: 8/30/12.

Accession Number: 20120830-5085.

Comments Due: 5 p.m. e.t. 9/11/12.

Docket Numbers: RP12-973-000.

Applicants: Ozark Gas Transmission, L.L.C.

Description: TABS Revisions to be effective 10/1/2012.

Filed Date: 8/30/12.

Accession Number: 20120830-5121.

Comments Due: 5 p.m. e.t. 9/11/12.

Docket Numbers: RP12-974-000.

Applicants: Ozark Gas Transmission, L.L.C.

Description: Negotiated Rate—Laclede—contract 820171 to be effective 9/1/2012.

Filed Date: 8/30/12.

Accession Number: 20120830-5123.

Comments Due: 5 p.m. e.t. 9/11/12.

Docket Numbers: RP12-975-000.

Applicants: Texas Eastern Transmission, LP.

Description: 2012 Operational Entitlements Filing.

Filed Date: 8/30/12.

Accession Number: 20120830-5132.

Comments Due: 5 p.m. e.t. 9/11/12.

Docket Numbers: RP12-976-000.

Applicants: East Cheyenne Gas Storage, LLC.

Description: ECGS Updated tariff filing to be effective 10/1/2012.

Filed Date: 8/30/12.

Accession Number: 20120830-5146.

Comments Due: 5 p.m. e.t. 9/11/12.

Docket Numbers: RP12-977-000.

Applicants: Trunkline Gas Company, LLC.

Description: Negotiated Rates Filing—3 to be effective 9/1/2012.

Filed Date: 8/30/12.

Accession Number: 20120830-5153.

Comments Due: 5 p.m. e.t. 9/11/12.

Docket Numbers: RP12-978-000.

Applicants: Alliance Pipeline L.P.

Description: September 2012 Auction to be effective 9/1/2012..

Filed Date: 8/30/12

Accession Number: 20120830-5158.

Comments Due: 5 p.m. e.t. 9/11/12.

Docket Numbers: RP12-979-000.

Applicants: Trailblazer Pipeline Company LLC.

Description: Cleanup 2012-08-30 to be effective 9/30/2012.

Filed Date: 8/30/12.

Accession Number: 20120830-5163.

Comments Due: 5 p.m. e.t. 9/11/12.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 4, 2012.
Nathaniel J. Davis, Sr.,
Deputy Secretary

[FR Doc. 2012-22681 Filed 9-13-12; 8:45 am]

BILLING CODE 6717-01-P